SECURITIES AND EXCHANGE COMMISSION

[Release No. 34-51447; File No. SR-ISE-2004-28]

Self-Regulatory Organizations; International Securities Exchange, Inc.; Notice of Filing of Proposed Rule Change and Amendments No. 1 and 2 Relating to Trading Options on Full and Reduced Values of the ISE 250 Index, the ISE 100 Index and the ISE 50 Index, Including Long-Term Options

Correction

In notice document 05-6743 beginning on page 17484 in the issue of Wednesday, April 6, 2005 make the following correction:

On page 17484, in the first column, the docket number is corrected to read as set forth above.

[FR Doc. C5-6743 Filed 4-14-05; 8:45 am]

BILLING CODE 1505-01-D

SECURITIES AND EXCHANGE COMMISSION

[Release No. 34-51458; File No. SR-NSCC-2004-09]

Self-Regulatory Organizations; National Securities Clearing Corporation; Notice of Filing of Proposed Rule Change to Establish a Comprehensive Standard of Care and Limitation of Liability to its Members

Correction

In notice document E5-1566 beginning on page 17494 in the issue of Wednesday, April 6, 2005 make the following correction:

On page 17495, in the third column, in the 21st line, “April 26, 2005” should read “April 27, 2005”.

[FR Doc. Z5-1566 Filed 4-14-05; 8:45 am]

BILLING CODE 1505-01-D